DEPARTMENT OF AGRICULTURE

Forest Service

Kisatchie National Forest Resource Advisory Committee

AGENCY: Forest Service, USDA.

ACTION: Notice of meeting.

SUMMARY: The Kisatchie National Forest Resource Advisory Committee will meet in Natchitoches, Louisiana. The committee is meeting as authorized under the Secure Rural Schools and Community Self-Determination Act (Pub. L 110-343) and in compliance with the Federal Advisory Committee Act. The purpose is to hold the first meeting of the newly formed committee.

DATES: The meeting will be held on June 29, 2010, and will begin at 7 p.m.

ADDRESSES: The meeting will be held at the Natchitoches Events Center, Meeting Room #3, 750 2nd Street, Natchitoches, LA. Written comments should be sent to Holly Morgan, Kisatchie National Forest, 2500 Shreveport Highway, Pineville, LA 71360. Comments may also be sent via e-mail to hmorgan@fsfed.us, or via facsimile to 318-473-7117.

All comments, including names and addresses when provided, are placed in the record and are available for public inspection and copying. The public may inspect comments received at Kisatchie National Forest, 2500 Shreveport Highway, Pineville, LA 71360. Visitors are encouraged to call ahead to 318-473-7160 to facilitate entry into the building.

FOR FURTHER INFORMATION CONTACT: Holly Morgan, RAC coordinator, USDA, Kisatchie National Forest, 2500 Shreveport Highway, Pineville, LA 71360; (318) 473-7194; E-mail hmorgan@fs.fed.us.

Individuals who use telecommunication devices for the deaf (TDD) may call the Federal Information Relay Service (FIRS) at 1-800-877-8339 between 8 a.m and 8 p.m., Eastern Standard Time, Monday through Friday.

SUPPLEMENTARY INFORMATION: The meeting is open to the public. The following business will be conducted: (1) Introductions of all committee members, replacement members and Forest Service personnel. (2) Selection of a chairperson by the committee members. (3) Receive materials explaining the process for considering and recommending Title II projects; and (4) Public Comment. Persons who wish to bring related matters to the attention of the Committee may file written statements with the Committee staff before or after the meeting.

Dated: May 12, 2010.
Michael L. Balboni,
Designated Federal Officer.

[FR Doc. 2010-13099 Filed 6-1-10; 8:45 am]

BILLING CODE 3410-11-M